DEPARTMENT OF ENERGY

Federal Energy Regulatory Commission

[Docket No. OR02-5-000]

Big West Oil, LLC, Chevron Products Company and Tesoro Refining and Marketing Company, Complainants, v. Alberta Energy Company, Ltd., Express Pipeline LLC and Platte Pipe Line Company, Respondents; Notice of Complaint

February 22, 2002.

Take notice that on February 21, 2002, Big West Oil LLC (Big West), Chevron Products Company (Chevron), and Tesoro Refining and Marketing Company (Tesoro) tendered for filing a Complaint against Alberta Energy Company, Ltd. (AEC), Express Pipeline LLC (Express) and Platte Pipe Line Company (Platte).

Big West, Chevron and Tesoro state in their Complaint that in order to transport crude oil and synthetic crude oil to their refineries in Salt Lake City, Utah, they must utilize a “pump over” facility that Platt Pipe Line Company operates in Casper, Wyoming. That pump over facility is used to transfer crude petroleum and synthetic crude oil in Casper, Wyoming from the Express pipeline to a pipeline operated by Frontier Pipeline Company. Big West, Chevron, and Tesoro allege that the fees being charged for the use of the Platte pump over facility are unjust and unreasonable and unduly discriminatory and unduly preferential and, therefore, in violation of the Interstate Commerce Act. Big West, Chevron and Tesoro further maintain that AEC and Express are directly responsible for the pump over fees and that these fees improperly inure to their benefit.

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before March 14, 2002. Protests will be considered by the Commission in determining the appropriate action to be taken, but will not serve to make protestants parties to the proceeding. Any person wishing to become a party must file a motion to intervene. Answers to the complaint shall also be due on or before March 14, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Magalie R. Salas,
Secretary.

[FR Doc. 02-4756 Filed 2-27-02; 8:45 am]

BILLING CODE 6717-01-P